DEPARTMENT OF COMMERCE

National Oceanic and Atmospheric Administration

RIN 0648-XC348

Endangered Species; File Nos. 17367 and 17364

AGENCY: National Marine Fisheries Service (NMFS), National Oceanic and Atmospheric Administration (NOAA), Commerce.

ACTION: Notice; receipt of applications.

SUMMARY: Notice is hereby given that the U.S. Fish and Wildlife Service (USFWS), Southeast Regional Office, Century Boulevard, Atlanta, GA 30602 [Thomas Sinclair: Responsible Party], has applied in due form for a permit [File No. 17367] to take shortnose sturgeon (Acipenser brevirostrum) and Atlantic sturgeon (Acipenser oxyrinchus oxyrinchus) for purposes of conducting scientific research; and also that the USFWS, Northeast Fishery Center, PO Box 75, Lamar, PA 16848 [Michael Millard: Responsible Party], has applied in due form for a permit [File No. 17364] to take Atlantic sturgeon for purposes of conducting scientific research.

DATES: Written, telefaxed, or email comments must be received on or before December 13, 2012.

ADDRESSES: The application and related documents are available for review by selecting “Records Open for Public Comment” from the Features box on the Applications and Permits for Protected Species (APPS) home page, https://apps.nmfs.noaa.gov, and then selecting File Nos. 17367 or 17364 from the list of available applications.

These documents are also available upon written request or by appointment in the following offices:

Permits and Conservation Division, Office of Protected Resources, NMFS, 1315 East-West Highway, Room 13705, Silver Spring, MD 20910; phone (301) 427-8401; fax (301) 713-0376;

Southeast Region, NMFS, 263 13th Avenue South, Saint Petersburg, Florida 33701; phone (727) 824-5312; fax (727) 824-5309; and

Northeast Region, NMFS, 55 Great Republic Drive, Gloucester, MA 01930; phone (978) 281-9328; fax (978) 281-9394.

Written comments on either application should be submitted to the Chief, Permits and Conservation Division

• By email to NMFS.Pr1Comments@noaa.gov (include the File No. in the subject line of the email);

• By facsimile to (301)713-0376; or

• At the address listed above.

Those individuals requesting a public hearing should submit a written request to the Chief, Permits and Conservation Division at the address listed above. The request should set forth the specific reasons why a hearing on the application(s) would be appropriate.

FOR FURTHER INFORMATION CONTACT: Malcolm Mohead or Colette Cairns at (301)427-8401.

SUPPLEMENTARY INFORMATION: The subject permits are requested under the authority of the Endangered Species Act of 1973, as amended (ESA; 16 U.S.C. 1531 et seq.) and the regulations governing the taking, importing, and exporting of endangered and threatened species (50 CFR parts 222-226).

File No. 17367: The applicant proposes using existing captive populations of shortnose and Atlantic sturgeon to conduct scientific research facilitating the development of new methods needed for achieving species recovery in four facilities in the Southeast Region of the USFWS. Research would include nutrition, physiology, propagation, contaminants, genetics, fish health, cryopreservation, tagging, refugia, and other collaborative research with others. Additionally, work would examine abiotic factors (e.g., pH, temperature, salinity dissolved oxygen, etc.) potentially influencing distribution and abundance in the wild. The permit would be valid for five years from the date of issuance.

File No. 17364: The applicant proposes refining propagation and culture techniques of captive Atlantic sturgeon held in refugia at the USFWS's Northeast Fisheries Center providing a source of research animals for studies related to tagging, tracking, behavior, physiology, genetics, health, cryopreservation, and other methods for population conservation, recovery, or enhancement of the species in the wild. The permit would be valid for five years from the date of issuance.

Dated: November 7, 2012.
P. Michael Payne,
Chief, Permits and Conservation Division, Office of Protected Resources, National Marine Fisheries Service.

[FR Doc. 2012-27514 Filed 11-9-12; 8:45 am]

BILLING CODE 3510-22-P